DEPARTMENT OF ENERGY

Federal Energy Regulatory Commission

[Project No. P-516-459]

South Carolina Electric & Gas Company; Notice of Application Accepted for Filing and Soliciting Motions To Intervene and Protests

May 29, 2009.

Take notice that the following hydroelectric application has been filed with the Commission and is available for public inspection.

a. Type of Applications: New Major License.

b. Project No.: P-516-459.

c. Date Filed: August 28, 2008.

d. Applicant: South Carolina Electric & Gas Company.

e. Name of Project: Saluda Hydroelectric Project.

f. Location: On the Saluda River in Richland, Lexington, Saluda, and Newberry counties, South Carolina. The project does not occupy any Federal lands.

g. Filed Pursuant to: Federal Power Act, 16 USC 791(a)-825(r).

h. Applicant Contact: William R. Argentieri, Manager-Civil Engineering, South Carolina Electric & Gas Company, 111 Research Drive, Columbia, South Carolina 29203, (803) 217-9162.

i. FERC Contact: Lee Emery at (202) 502-8379, or lee.emery@ferc.gov.

j. Deadline for filing motions to intervene and protests: 60 days from the issuance date of this notice, or July 29, 2009.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link. For a simpler method of submitting text only comments, click on “Quick Comment.”

k. This application has been accepted, but is not ready for environmental analysis at this time.

l. The existing 207.3-megawatt Saluda Project consists of a single development with the following features: (1) A 7,800-foot-long, 213-foot-high earth-fill dam (Saluda dam), with South Carolina State Highway 6 (Highway 6) running along the top of the dam; (2) a dike that extends 2,550 feet from the north end of the dam, running parallel with Highway 6; (3) a 2,900-foot-long emergency spillway, with six steel Taintor gates, that is located 500 feet from the south end of Saluda dam, and a spillway channel that reconnects with the Saluda River about 0.75 miles downstream from the Saluda powerhouse; (4) a 2,300-foot-long, 213-foot-high roller compacted concrete backup dam located along the downstream toe of the Saluda dam, with (i) a crest elevation of 372.0 feet North American Vertical Datum of 1988 (NAVD88),¹ and (ii) rock fill embankment sections on the north and south ends of the backup dam, having a combined length of 5,700 feet; (5) a 41-mile-long, 50,900-acre reservoir (Lake Murray) at a full pool elevation of 358.5 feet NAVD88, with a total usable storage of approximately 635,000 acre-feet; (6) five 223-foot-high intake towers and associated penstocks; (7) a concrete and brick powerhouse containing four vertical Francis turbine generating units (three at 32.5 MW and one at 42.3 MW), and a fifth vertical Francis turbine generating unit (67.5 MW), which is enclosed in a weather-tight housing located on a concrete deck attached to the south end of the main powerhouse; (8) a 150-foot-long tailrace; and (9) appurtenant facilities. There is no transmission line or bypassed reach associated with the project.

¹ The license application contains documents that provide elevations based on NAVD88 datum or based on Plant Datum. To convert from Plant Datum to NAVD88 datum, subtract 1.5 feet.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. E9-13222 Filed 6-5-09; 8:45 am]

BILLING CODE P